DEPARTMENT OF HEALTH AND HUMAN SERVICES

Food and Drug Administration

21 CFR Part 1

[Docket No. FDA-2013-N-0013]

RIN 0910-AG98

Sanitary Transportation of Human and Animal Food; Extension of Comment Period

AGENCY: Food and Drug Administration, HHS.

ACTION: Proposed rule; Extension of Comment Period.

SUMMARY: The Food and Drug Administration (FDA or we) is extending the comment period for the notice of proposed rulemaking that appeared in the Federal Register of February 5, 2014, entitled “Sanitary Transportation of Human and Animal Food” and its information collection provisions. We are taking this action in response to requests for an extension to allow interested persons additional time to submit comments. We also are taking this action to keep the comment period for the information collection provisions associated with the rule consistent with the comment period for the proposed rule.

DATES: FDA is extending the comment period on the proposed rule published February 5, 2014 (79 FR 7005), and its information collection provisions. Submit either electronic or written comments on the proposed rule and the information collection by July 30, 2014.

ADDRESSES: You may submit comments by any of the following methods, except that comments on information collection issues under the Paperwork Reduction Act of 1995 must be submitted to the Office of Information and Regulatory Affairs, Office of Management and Budget (OMB) (see the “Paperwork Reduction Act of 1995” section of this document).

Electronic Submissions

Submit electronic comments in the following way:

• Federal eRulemaking Portal: http://www.regulations.gov. Follow the instructions for submitting comments.

Written Submissions

Submit written submissions in the following ways:

• Mail/Hand delivery/Courier (for paper submissions): Division of Dockets Management (HFA-305), Food and Drug Administration, 5630 Fishers Lane, Rm. 1061, Rockville, MD 20852.

Instructions: All submissions received must include the Agency name, Docket No. FDA-2013-N-0013, and RIN 0910-AG98 for this rulemaking. All comments received may be posted without change to http://www.regulations.gov, including any personal information provided. For additional information on submitting comments, see the “Request for Comments” heading of the SUPPLEMENTARY INFORMATION section of this document.

Docket: For access to the docket to read background documents or comments received, go to http://www.regulations.gov and insert the docket number, found in brackets in the heading of this document, into the “Search” box and follow the prompts and/or go to the Division of Dockets Management, 5630 Fishers Lane, Rm. 1061, Rockville, MD 20852.

FOR FURTHER INFORMATION CONTACT: With regard to the proposed rule: Michael E. Kashtock, Center for Food Safety and Applied Nutrition, Food and Drug Administration, 5100 Paint Branch Pkwy., College Park, MD 20740, 240-402-2022.

With regard to the information collection: Domini Bean, Office of Information Management, Food and Drug Administration, 8455 Colesville Rd., COLE-14526, Silver Spring, MD 20993-0002, Domini.Bean@fda.hhs.gov.

SUPPLEMENTARY INFORMATION:

I. Background

In the Federal Register of February 5, 2014, we published a proposed rule entitled “Sanitary Transportation of Human and Animal Food” with a 115-day comment period on the provisions of the proposed rule and on the information collection provisions that are subject to review by OMB under the Paperwork Reduction Act (44 U.S.C. 3501-3520).

FDA has received requests for an extension of the comment period on the proposed rule. The requests conveyed concern that the current 115-day comment period does not allow time to thoroughly analyze the proposed rule given that the regulations would apply to a diverse array of human foods, animal feed and feed ingredients, and pet food transported by rail and truck. The requests also stated an extended comment period would allow interested persons an opportunity to consider the complexities that affect the interrelated responsibilities of shippers, carriers, and receivers. Finally, the requests stated that additional time is needed to analyze the economic impact on the affected industry sectors and to provide FDA with pertinent information to assist in the economic analysis. FDA has considered the requests and is granting a 60-day extension of the comment period to July 30, 2014, for the “Sanitary Transportation of Human and Animal Food” proposed rule to allow interested persons additional time to submit comments. We also are extending the comment period for the information collection provisions to July 30, 2014, to make the comment period for the information collection provisions the same as the comment period for the provisions of the proposed rule. To clarify, FDA is requesting comment on all issues raised by the proposed rule.

II. Paperwork Reduction Act of 1995

Interested persons may either submit electronic comments regarding the information collection to oira_submission@omb.eop.gov or fax written comments to the Office of Information and Regulatory Affairs, OMB, Attn: FDA Desk Officer, FAX: 202-395-7285. All comments should be identified with the title “Sanitary Transportation of Human and Animal Food.”

III. Request for Comments

Interested persons may submit either electronic comments regarding the proposed rule to http://www.regulations.gov or written comments to the Division of Dockets Management (see ADDRESSES). It is only necessary to send one set of comments. Received comments may be seen in the Division of Dockets Management between 9 a.m. and 4 p.m., Monday through Friday, and will be posted to the docket at http://www.regulations.gov.

Dated: May 20, 2014.
Leslie Kux,
Assistant Commissioner for Policy.

[FR Doc. 2014-12002 Filed 5-22-14; 8:45 am]

BILLING CODE 4160-01-P